ENVIRONMENTAL PROTECTION AGENCY

[FRL-7944-9]

Availability of “Allocation of Funds for Fiscal Year 2005 Operator Training Grants”

AGENCY: Environmental Protection Agency (EPA).

ACTION: Notice of document availability.

SUMMARY: EPA is announcing availability of a memorandum entitled “Allocation of Funds for Fiscal Year 2005 Operator Training Grants” issued on June 2, 2005. This memorandum provides National guidance for the allocation of funds used under Section 104(g)(1) of the Clean Water Act.

ADDRESSES: Municipal Assistance Branch, U.S. EPA, 1200 Pennsylvania Avenue, NW., (4204-M), Washington, DC 20460.

FOR FURTHER INFORMATION CONTACT: Gajindar Singh, (202) 564-0634 or singh.gajindar@epa.gov.

SUPPLEMENTARY INFORMATION: The subject memorandum may be viewed and downloaded from EPA's home page, http://www.epa.gov/owm/mab/104gallocmem05.pdf.

Dated: July 15, 2005.
James A. Hanlon,
Director, Office of Wastewater Management.

[FR Doc. 05-14935 Filed 7-27-05; 8:45 am]

BILLING CODE 6560-50-P